NUCLEAR REGULATORY COMMISSION

Sunshine Act Meeting

AGENCY HOLDING THE MEETING: Nuclear Regulatory Commission.

DATE: Weeks of July 9, 16, 23, 30, August 6, 13, 2001.

PLACE: Commissioners' Conference Room, 11555 Rockville Pike, Rockville, Maryland.

STATUS: Public and Closed.

MATTERS TO BE CONSIDERED:

Week of July 9, 2001

There are no meetings scheduled for the Week of July 9, 2001.

Week of July 16, 2001—Tentative

Thursday, July 19, 2001

9:25 a.m.—Affirmation Session (Public Meeting) (If needed)

9:30 a.m.—Briefing on Results of Agency Action Review Meeting—Reactors (Public Meeting) (Contact: Ron Frahm, 301-415-2986)

1:30 p.m.—Briefing on Readiness for New Plant Applications and Construction (Public Meeting) (Contact: Nanette Gilles, 301-415-1180)

Friday, July 20, 2001

9:30 a.m.—Briefing on Results of Reactor Oversight Process Initial Implementation (Public Meeting) (Contact: Tim Frye, 301-415-1287)

1:00 p.m.—Briefing on Risk-Informing Special Treatment Requirements (Public Meeting) (Contact: John Nakoski, 301-415-1278)

Week of July 23, 2001—Tentative

There are no meetings scheduled for the Week of July 23, 2001.

Week of July 30, 2001—Tentative

Tuesday, July 31, 2001

1:25 p.m.—Affirmation Session (Public Meeting) (If needed)

Week of August 6, 2001—Tentative

There are no meetings scheduled for the Week of August 6, 2001.

Week of August 13, 2001—Tentative

Tuesday, August 14, 2001

9:30 a.m.—Briefing on NRC International Activities (Public Meeting) (Contact: Elizabeth Doroshuk, 301-415-2775)

Wednesday, August 15, 2001

9:30 a.m.—Briefing on EEO Program (Public Meeting) (Contact: Irene Little, 301-415-7380)

1:25 p.m.—Affirmation Session (Public Meeting) (If needed)

1:30 p.m.—Meeting with Organization of Agreement States (OAS) and Conference of Radiation Control Program Directors (CRCPD) (Public Meeting (Contact: John Zabko, 301-415-1277)

*The schedule for Commission meetings is subject to change on short notice. To verify the status of meetings call (recording)—(301) 415-1292. Contact person for more information: David Louis Gamberoni (301) 415-1651

The NRC Commission Meeting Schedule can be found on the Internet at: http://www.nrc.gov/SECY/smj/schedule.htm

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an elecontric message to dkw@nrc.gov.

Dated: July 5, 2001.
David Louis Gamberoni,
Technical Coordinator, Office of the Secretary.

[FR Doc. 01-17446 Filed 7-9-01; 8:45 am]

BILLING CODE 7590-01-M